FEDERAL DEPOSIT INSURANCE CORPORATION

Agency Information Collection Activities: Proposed Collection Revision; Comment Request; Purchaser Eligibility Certification

AGENCY: Federal Deposit Insurance Corporation (FDIC).

ACTION: Notice and request for comment.

SUMMARY: The FDIC, as part of its continuing effort to reduce paperwork and respondent burden, invites the general public and other Federal agencies to take this opportunity to comment on renewal of an existing information collection, as required by the Paperwork Reduction Act of 1995 (44 U.S.C. chapter 35). Currently, the FDIC is soliciting comment on revision of the information collection described below.

DATES: Comments must be submitted on or before February 19, 2013.

ADDRESSES: Interested parties are invited to submit written comments to the FDIC by any of the following methods:

• http://www.FDIC.gov/regulations/laws/federal/notices.html.

• Email: comments@fdic.gov Include the name of the collection in the subject line of the message.

• Mail: Leneta G. Gregorie (202-898-3719), Counsel, Room F-1084, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Leneta G. Gregorie, at the FDIC address above.

SUPPLEMENTARY INFORMATION:

Proposal To Revise the Following Currently Approved Collection of Information

Title: Asset Purchaser Eligibility Certification.

OMB Number: 3064-0135.

Form Number: FDIC 7300/06, “Purchaser Eligibility Certification”; 7300/07, “Pre-Qualification Request”; and 7300/08, “Contact Information Form”.

Frequency of Response: On occasion.

Affected Public: Business or other financial institutions.

Estimated Number of Respondents: 600.

Estimated Time per Response: 1.0 hour (Purchaser Eligibility Certification, 30 minutes; Pre-Qualification Request, 20 minutes; and Contact Information Form, 10 minutes).

Total Annual Burden: 600 hours.

General Description of Collection: The FDIC uses the Purchaser Eligibility Certification form, FDIC Form No. 7300/06, to identify prospective bidders who are not eligible to purchase assets of failed institutions from the FDIC. Specifically, section 11(p) of the Federal Deposit Insurance Act prohibits the sale of assets of failed institutions to certain individuals or entities that profited or engaged in wrongdoing at the expense of those failed institutions, or seriously mismanaged those failed institutions. The FDIC is proposing to update the Privacy Act Statement in the Purchaser Eligibility Certification form. In addition, the FDIC is proposing to add two forms to the Purchaser Eligibility Certification information collection: the Pre-Qualification Request form, FDIC Form No. 7300/07, is designed to determine which prospective bidders are qualified to bid on particular types of assets offered by the FDIC (e.g., securities, mortgage servicing portfolios, shared national credits. Interests in structured transactions, credit card receivables) for which no further qualification criteria are required to be met and to ensure that prospective bidders understand the terms and conditions of asset sales; and the Contact Information Form, FDIC Form No. 7300/08, determines the type of assets a prospective bidder is interested in and facilitates communication with the prospective bidder. A link to copies of the forms can be found directly beneath this notice on the FDIC's Federal Register Citations Web page at: http://www.fdic.gov/regulations/laws/federal/notices.html.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Federal Deposit Insurance Corporation.
Dated at Washington, DC, this 12th day of December 2012.
Robert E. Feldman,
Executive Secretary.

[FR Doc. 2012-30343 Filed 12-17-12; 8:45 am]

BILLING CODE 6714-01-P